DEPARTMENT OF VETERANS AFFAIRS

Employees Whose Association With For-Profit Educational Institutions Poses No Detriment to Veterans

AGENCY: Department of Veterans Affairs.

ACTION: Notice of intent; withdrawal of notice.

SUMMARY: The Department of Veterans Affairs (VA) published a Notice of intent and request for comments in the Federal Register on September 14, 2017. This document withdraws the Notice of intent and request for comments that published in the Federal Register on September 14, 2017.

DATES: Effective October 16, 2017, the Notice of intent and request for comments published at 82 FR 43288, September 14, 2017 is withdrawn.

FOR FURTHER INFORMATION CONTACT: Christopher Britt, Office of General Counsel (02-EST), Department of Veterans Affairs, 810 Vermont Avenue NW., Washington, DC 20420, Christopher.britt@va.gov, 202-461-7637 (this is not a toll free number).

SUPPLEMENTARY INFORMATION: The VA published a Notice of intent and request for comments in the Federal Register on September 14, 2017, 82 FR 43288, that proposed issuance of a blanket waiver of the conflict of interest provisions of 38 U.S.C. 3683(a). This statute requires immediate dismissal from VA service of any officer or employee who has, while an officer or employee, owned any interest in, or received any wages, salary, dividends, profits, gratuities, or services from, any educational institution operated for profit in which an eligible person or veteran was using VA educational benefits. The document stated that the Secretary intended to waive the application of 38 U.S.C. 3683(a) for all VA employees who receive any wages, salary, dividends, profits, gratuities, or services from, or own any interest in, a for-profit educational institution in which an eligible person or veteran is pursuing a program of education using VA education benefits, as long as employees abided by the existing criminal conflict of interest laws and the Standards of Conduct for Employees of the Executive Branch, as the Secretary had determined that no detriment would result to the United States, veterans, or eligible persons from such activities.

Comments to the document were to be provided to the VA on or before October 16, 2017. The VA received a significant number of comments and has determined not to pursue implementation of the waiver as originally proposed. This document withdraws the Notice of intent and request for comments that published in the Federal Register on September 14, 2017, 82 FR 43288.

Dated: October 11, 2017.
Michael Shores,
Director, Regulation Policy & Management, Office of the Secretary, Department of Veterans Affairs.

[FR Doc. 2017-22352 Filed 10-13-17; 8:45 am]

BILLING CODE 8320-01-P